DEPARTMENT OF JUSTICE

Notice of Lodging of Proposed Consent Decrees Under the Comprehensive Environmental Response, Compensation, and Liability Act

On March 26, 2013, the Department of Justice lodged two proposed consent decrees with the United States District Court for the Central District of California in the lawsuit entitled City of Colton v. American Promotional Events, Inc., et al., Civil Action No. CV 09-01864 PSG [Consolidated with Case Nos. CV 09-6630 PSG (SSx), CV 09-06632 PSG (SSx), CV 09-07501 PSG (SSx), CV 09-07508 PSG (SSx), CV 10-824 PSG (SSx) and CV 05-01479 PSG (SSx)]. The first consent decree (“Goodrich consent decree”) requires Goodrich Corporation and/or United Technologies Corporation to partially fund and to perform work required by a future Record of Decision relating to the B.F. Goodrich Superfund Site (“Site”). The second consent decree (“KTI consent decree”) requires Ken Thompson, Inc.; KTI, Incorporated; Pipeline Carriers, Inc.; and Rialto Concrete Products, Inc. to pay $2.8 million toward Site costs. In the Goodrich consent decree and the KTI consent decree the United States provides certain covenants not to sue and other protections pursuant to the Comprehensive Environmental Response, Compensation, and Liability Act and Section 7003 of the Resource Conservation and Recovery Act. A hearing will be held on the proposed settlement if requested in writing within the public comment period.

The publication of this notice opens a period for public comment on the Goodrich consent decree and the KTI consent decree. Comments should specify which consent decree is being commented upon and should be addressed to the Assistant Attorney General, Environment and Natural Resources Division, and should refer to City of Colton v. American Promotional Events, Inc., et al., D.J. Ref. No. 90-11-2-09952. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Goodrich consent decree and the KTI consent decree may be examined and downloaded at this Justice Department Web site: http://www.usdoj.gov/enrd/Consent_Decrees.html. We will provide paper copies of the consent decrees upon written request and payment of reproduction costs. Please mail your request and payment to: Consent Decree Library, U.S. DOJ—ENRD, P.O. Box 7611, Washington, DC 20044-7611.

Please enclose a check or money order for $51.75 for the Goodrich consent decree and $13.00 for the KTI consent decree (25 cents per page reproduction cost) payable to the United States Treasury.

Maureen Katz,
Assistant Section Chief, Environmental Enforcement Section, Environment and Natural Resources Division.

[FR Doc. 2013-07450 Filed 3-29-13; 8:45 am]

BILLING CODE 4410-15-P